DEPARTMENT OF THE INTERIOR

Office of the Secretary

Policy and Procedures for Collection of Missing Indian Trust-Related Records From Third Parties

AGENCY: Office of the Secretary, Interior.

ACTION: Notice.

SUMMARY: This document establishes policy and procedures that the Department of the Interior (DOI) will follow to collect relevant, available Indian trust-related records from third parties to conduct a historical accounting of Individual Indian Monies (IIM) or Tribal Trust accounts. Collection of these records would supplement existing Federal records and assist the Department in assembling complete records in those instances where Federal records are incomplete or missing.

FOR FURTHER INFORMATION CONTACT: Bert Edwards, Executive Director, Office of Historical Trust Accounting, 1801 Pennsylvania Avenue NW., Suite 400, Washington DC 20006, telephone 202-327-5300, or by facsimile at 202-327-5375.

SUPPLEMENTARY INFORMATION: The remainder of this notice is divided into two parts. Part one contains the policy and procedures the Department will follow in collecting Indian trust-related records from third parties needed to complete the historical accounting. Part two is an explanation of the Department's policy and how it evolved.

Part One: Policy and Procedures for Collecting Indian Trust-Related Records From Third Parties

I. Policy

The Department's Office of Historical Trust Accounting (OHTA) will identify, locate, and secure available data, including missing trust-related records, as necessary, to conduct a historical accounting of Individual Indian Monies (IIM) or tribal accounts.

II. Objective

The objective of this policy is to supplement existing Federal records by collecting relevant, available Indian trust-related records from third parties for purposes of conducting a historical accounting of IIM or tribal accounts.

III. Responsibility

OHTA is responsible for carrying out the procedures identified in this policy and for coordinating with other DOI bureaus and offices, as appropriate.

IV. Procedures To Be Followed in Collecting Trust Information

OHTA must use the following actions to locate and secure missing Indian trust-related information from third parties.

1. Alert Potential Third Parties to DOI's Efforts to Locate and Secure Possible Missing Indian Trust-Related Records, and Request Retention

(a) Alert potential third parties to DOI's efforts and the need to retain relevant records through Federal Register notices, letters, newspaper ads, presentations at meetings and conferences, information bulletins in mailings, and other means.

(b) Potential third parties include:

(1) Tribes;

(2) Federal agencies (other than Bureaus within DOI);

(3) State agencies;

(4) County agencies;

(5) Municipal agencies;

(6) Financial Institutions;

(7) Companies;

(8) Law firms;

(9) Colleges and universities;

(10) Professional organizations and societies; and

(11) Individuals.

2. Identify Information and Records Needed

(a) Identify records necessary, e.g., to complete the historical accounting use document types described in the Accounting Standards Manual issued by OHTA.

(b) Assess known information gaps and missing Indian trust-related records. For example, in preparing the historical accounting:

(1) Use results from a current Office of Trust Records project to index existing records;

(2) Survey Interior Bureaus to determine the availability of relevant records; and

(3) Complete an evaluation of relevant automated systems.

(c) Identify specific information gaps that might be filled by third parties.

3. Identify and Locate Indian Trust-Related Records Held by Potential Third Parties

(a) Identify potential third parties by resource and document type.

(b) Contact potential third parties.

(c) Ask potential third parties to identify, inventory, and secure available, relevant Indian trust-related records, providing a copy of the inventory to DOI.

4. Obtain Third-Party Records

(a) Once a data gap has been identified, review available third-party inventories and identify records that pertain.

(b) Secure relevant Indian trust-related records through an electronic image, paper copy, or in some instances, assuming custody of original records.

(c) Store available records in an appropriate records storage facility.

Part Two: Explanation of the Department's Policy

I. Oil and Gas Industry Pilot Project

In an effort to gauge the potential availability of third-party Individual Indian Monies-related or Tribal-related information, DOI initiated a pilot project focused on the oil and gas industry. A Federal Register notice was published on February 6, 2002 (67 FR 5607), requesting that, “anyone in possession of records related to IIM trust funds to notify the Department, and preserve and maintain such records indefinitely.” The notice also noted that DOI would be willing to take custody of these records, if the current owner preferred.

In March 2002, this notice was followed with a letter sent to approximately 4,200 addresses derived from the Oil and Gas Journal subscription list. This letter asked if the company addressee possessed records relating to production on individual-allotted Indian lands and requested an inventory of those records from 1887 to the present. The letter requested that the company preserve and maintain these documents. It also asked for a copy of the company's records retention policy.

In July 2002, staff from OHTA conducted an on-site survey of some documents held in storage by a responding company located in Denver, Colorado. The purpose of this review was to determine what data may be available from third-party sources and to estimate their relevance to the historical accounting effort. The review revealed that trust records represent a very small percentage of the stored materials and are interspersed with non-trust data. The review also led to the conclusion that locating trust data within the volume of stored records would be a labor-intensive exercise, particularly where there is no data inventory.

A final component of this pilot project involved a presentation at the fall conference of the Council of Petroleum Accountants Society in October 2002. In this case, information was presented to the conference describing OHTA, its role in collecting missing information and in completing the historical accounting for IIM account holders. The discussion following the presentation revealed the following.

—Many of the companies represented at the conference are retaining data they believe are relevant to Indian trust resources.

—Industry consolidation could make data collection more difficult because acquiring companies may not be fully aware of the content or completeness of records “inherited” from an acquired company.

—Companies are concerned that old, and potentially unknown, liabilities inherited from acquired companies could be discovered if they surrender records to the Federal Government.

—Few, if any, companies have segregated Indian data from non-Indian data, and it could be costly to as so, particularly for inactive, archived records.

—Companies are concerned about Federal access to records unrelated to Indian trust.

II. Explanation of the Procedures for Collecting Trust Information

This part explains the procedures in section IV of part one of this notice. The numbered paragraphs correspond to the paragraph numbers in section IV of part one.

1. Alert Potential Third Parties of DOI's Efforts To Locate and Secure Possible Missing Indian Trust-Related Information, and Request Retention

OHTA expects to write letters, publish notices in the Federal Register, and take ads in local, regional, and national newspapers, Tribal publications, and trade and professional publications to alert potential third parties of the possible need for their Indian trust-related records. In the case of historical accounting, for example, the notices and ads will describe the historical accounting effort, and request individuals and organizations to inventory their records and notify OHTA if they believe they possess records relevant to income production on individual Indian or Tribal lands. Additionally, OHTA will make presentations to professional organizations as a means of making a direct request for assistance in locating relevant data. In those instances where a specific third party is a likely source of records, OHTA will approach the entity directly.

Further, another process to locate third-party data involves inserting informational notices into routine mailings administered by DOI agencies and non-DOI agencies (such as the U.S. Forest Service). This process would alert third parties directly and ask for their assistance in locating appropriate data. With the cooperation of elected officials, a similar mailing could be directed toward a larger audience by inserting informational notes into Congressional letters mailed to constituents.

2. Identify Information Needed

In order to secure relevant data, it is important to identify the information needs that exist. Searching for third-party data before knowing whether these data are necessary is neither efficient nor effective. The relevance and importance of third-party data will be determined by information gaps identified. Thus, it is important to know what information gaps exist and then develop an approach to fill those gaps.

For example, after consulting with five major accounting firms, OHTA has issued an Accounting Standards Manual that identifies key document types for accounting teams to use in performing the historical accounting. At present, the Manual focuses on documents under Federal control. As the historical accounting progresses, the Manual is expected to be updated as more is learned about the types of documents available and the types of documents utilized over time. In those instances where OHTA is not able to use or locate federally held records to document a transaction, the manual will identify equivalent third-party data as a means to support the accounting.

Third-party data would likely reside with entities involved in the revenue stream or production activities associated with Indian trust resources, or with those parties that received the revenue. Analysis of these activities, as well as lines of communication associated with them, will help identify documents potentially held by third-party custodians. For example, data relevant to judgments are likely to be associated with court records. Searching pertinent court records may produce documents suitable for use in documenting transactions associated with judgment accounts.

A number of efforts have been initiated to address potential information gaps. The Office of Trust Records (OTR) has initiated a contract to index records in the OTR Albuquerque facilities and the Lee's Summit, Missouri, Federal Records Center. This effort will provide an assessment of records and record types in Federal custody and can be used to identify those that may have to be searched among third parties. In addition, several Bureaus within DOI, including Bureau of Indian Affairs, Minerals Management Service, U.S. Geological Survey, and the Bureau of Land Management will be asked to identify the types of records they have destroyed as part of an approved document retention/disposition plan, or accidentally. This survey will also provide information about records in Federal possession and those that could be searched and perhaps retrieved from third parties.

Gaps in available data will also be detected as OHTA undertakes the accounting effort. Analyses will verify account transactions with actual records. Transactions that cannot be corroborated will usually indicate the need to search for additional relevant data. Identification of data gaps through the reconciliation process is anticipated to result in specific and relevant data needs, and may require identifying and collecting records held by third parties.

3. Identify and Locate Records Held by Potential Third Parties

Once an information need has been identified and it has been confirmed that the necessary trust-related data are not under Federal control, the next step is to identify a potential source from an entity other than a Bureau within DOI, i.e., a third party.

The number and range of potential third parties is extensive. State and county agency records may offer a number of data sources. For example, State revenue records usually contain data on both personal and business tax assessments and payments; County Clerk offices may have data to identify and confirm property ownership or property leases; Oil and Gas Commissions can have records on production rates, prices, and royalties; State and regional Geological Societies may possess information to help determine oil quality and production areas; State Agricultural Departments are likely to hold data about crop harvest, grazing, and dairy production; State Forestry Departments could have information relevant to timber production, timber harvest, and timber sales.

Private companies are also likely to have data to confirm lease payments, rights-of-way payments, and production data. Federal agencies other than DOI could have data on timber harvest, surface mine production, grazing, and recreational revenues. The U.S. General Accounting Office may have information relative to previous accountings, and the Department of the Treasury is likely to have records of cashed checks issued to, or on behalf of IIM account holders by the Federal Government. Financial institutions, colleges and universities, State and local historical societies, professional and business associations, and a variety of other entities may possess records that will be relevant to the historical accounting process.

Finally, it is very possible individual Indians and Tribes may possess records that can be used to supplement Federal records. As the accounting effort identifies a need to supplement available Federal records, the appropriate organization(s) will be identified and attempts made to secure copies of existing records.

4. Obtain Third-Party Data

Once a potential data need has been identified and a possible records source has been recognized, OHTA will undertake prudent action to contact the source, review available documents, and attempt to secure a copy of relevant data. The availability of inactive records held by individual entities will vary since experience indicates there is no “industry standard” document retention policy.

In some instances, entities may request that DOI take custody of relevant documents. In appropriate cases, DOI will identify a suitable secure storage site (e.g., a Federal Records Center) and take possession of the records. Appropriate security and access strategies will be employed to ensure that the documents are available for the historical accounting effort.

Dated: April 30, 2003.
J. Steven Griles,
Deputy Secretary.

[FR Doc. 03-11095 Filed 5-1-03; 9:38 am]

BILLING CODE 4310-10-P